DEPARTMENT OF LABOR

Mine Safety and Health Administration

30 CFR Part 75

[MSHA-2014-0029]

RIN 1219-AB85

Request for Information To Improve the Health and Safety of Miners and To Prevent Accidents in Underground Coal Mines

AGENCY: Mine Safety and Health Administration, Labor.

ACTION: Request for information; extension of comment period.

SUMMARY: In response to requests from interested parties, the Mine Safety and Health Administration (MSHA) is extending the comment period on the Agency's Request for Information To Improve the Health and Safety of Miners and To Prevent Accidents in Underground Coal Mines. This extension gives interested parties additional time to submit information to the Agency.

DATES: The comment period for the document published February 26, 2015 (80 FR 10436), has been extended. Comments must be received or postmarked by midnight Eastern Daylight Savings time on June 26, 2015.

ADDRESSES: Submit comments and informational materials, identified by “RIN 1219-AB85” or Docket Number “MSHA-2014-0029”, by any of the following methods:

Federal E-Rulemaking Portal: http://www.regulations.gov. Follow the on-line instructions for submitting comments for Docket Number MSHA-2014-0029.

• Electronic mail: zzMSHA-comments@dol.gov. Include “RIN 1219-AB85” in the subject line of the message.

• Mail: MSHA, Office of Standards, Regulations, and Variances, 1100 Wilson Boulevard, Room 2350, Arlington, Virginia 22209-3939.

• Hand Delivery/Courier: MSHA, Office of Standards, Regulations, and Variances, 1100 Wilson Boulevard, Room 2350, Arlington, Virginia, between 9:00 a.m. and 5:00 p.m. Monday through Friday, except Federal holidays. Sign in at the receptionist's desk on the 21st floor.

Instructions: All submissions received must include the Agency name “MSHA” and Docket Number “MSHA-2014-0029” or “RIN 1219-AB85.” All comments received will be posted without change to http://www.regulations.gov, under Docket Number MSHA-2014-0029, and on http://www.msha.gov/currentcomments.asp, including any personal information provided.

Docket: For access to the docket to read comments received, go to http://www.regulations.gov or http://www.msha.gov/currentcomments.asp. To read background documents, go to http://www.regulations.gov. Review the docket in person at MSHA, Office of Standards, Regulations, and Variances, 1100 Wilson Boulevard, Room 2350, Arlington, Virginia, between 9:00 a.m. and 5:00 p.m. Monday through Friday, except Federal Holidays. Sign in at the receptionist's desk on the 21st floor.

FOR FURTHER INFORMATION CONTACT: Sheila A. McConnell, Acting Director, Office of Standards, Regulations, and Variances, MSHA, at mcconnell.sheila.a@dol.gov (email); 202-693-9440 (voice); or 202-693-9441 (facsimile). These are not toll-free numbers.

SUPPLEMENTARY INFORMATION: On February 26, 2015 (80 FR 10436), MSHA published a Request for Information To Improve the Health and Safety of Miners and To Prevent Accidents in Underground Coal Mines. The comment period is scheduled to close on April 27, 2015. In response to requests, MSHA is extending the comment period to June 26, 2015, to allow additional time for interested parties to coordinate responses.

Dated: April 16, 2015.
Joseph A. Main,
Assistant Secretary of Labor for Mine Safety and Health.

[FR Doc. 2015-09246 Filed 4-21-15; 8:45 am]

BILLING CODE 4510-43-P